SECURITIES AND EXCHANGE COMMISSION

Submission for OMB Review; Comment Request

Upon Written Request Copies Available From:Securities and Exchange Commission, Office of FOIA Services, 100 F Street NE., Washington, DC 20549-2736.

Ombudsman Matter Management System, OMB Control No. 3235-XXXX, SEC File No. 270-797.

Notice is hereby given that, pursuant to the Paperwork Reduction Act of 1995 (44 U.S.C. 3501 et seq.), the Securities and Exchange Commission (“Commission” or “SEC”) has submitted this new request for the new collection of information to the Office of Management and Budget for approval.

Members of the public who contact the Ombudsman for assistance currently do so by traditional mail, electronic mail, telephone, and facsimile. To make it easier for retail investors and others to contact the Ombudsman electronically, the Commission is developing the Ombudsman Matter Management System (“OMMS”), a new, electronic data-collection system for the receipt, collection, and analysis of inquiries, complaints, and recommendations from retail investors directed to the SEC Ombudsman and the Office of the Investor Advocate, and invites comment on OMMS. Through OMMS, members of the public may request assistance from the Ombudsman and staff using a web-based form (the “OMMS Form”) tailored to gather information about matters within the scope of the Ombudsman's function and streamline the inquiry and response process.

The OMMS Form will facilitate communication with the Ombudsman via an electronic series of basic questions with user-friendly response features such as radio buttons, drop-down menu responses, pop-up explanation bubbles, Web page links, fillable narrative text fields, and document upload options. In addition, the OMMS Form incorporates functionality that, depending upon certain responses, pre-populates specific fields, and prompts the user to provide additional information. By eliciting specific information from the user, the OMMS Form will facilitate communication between the user and the Ombudsman, reduce response and resolution times, and maximize Ombudsman staff resources available for recording, processing, and responding to matters. The requested information collection is voluntary and will not change the contact methods currently available.

The Commission expects that OMMS will be operative and the OMMS Form publicly available through the Commission's Web site, https://www.sec.gov. The Commission estimates that the total reporting burden for using the OMMS Form will be 250 hours. The calculation of this estimate depends on how many members of the public use the form each year and the estimated time it takes to complete the forms: 500 respondents × 30 minutes = 250 burden hours. The estimates of average burden hours are made solely for the purposes of the Paperwork Reduction Act and are not derived from a comprehensive or even representative survey or study of the cost of Commission rules and forms. The total estimated one-time cost to the federal government of creating OMMS and the OMMS Form is $400,000.

An agency may not conduct or sponsor a collection of information unless it displays a currently valid control number. No person shall be subject to any penalty for failing to comply with a collection of information subject to the PRA that does not display a valid Office of Management and Budget control number.

Written comments are invited on all aspects of this proposed information collection request, in particular: (a) Whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Background documentation for this information collection may be viewed at the following Web site, www.reginfo.gov. Comments should be directed to: (i) Desk Officer for the Securities and Exchange Commission, Office of Information and Regulatory Affairs, Office of Management and Budget, Room 10102, New Executive Office Building, Washington, DC 20503, or by sending an email to Shagufta_Ahmed@omb.eop.gov; and (ii) Pamela Dyson, Director/Chief Information Officer, Securities and Exchange Commission, c/o Remi Pavlik-Simon, 100 F Street NE., Washington, DC 20549; or send an email to: PRA_Mailbox@sec.gov. Comments must be submitted within 30 days of this notice.

Dated: July 21, 2016.
Robert W. Errett,
Deputy Secretary.

[FR Doc. 2016-17636 Filed 7-25-16; 8:45 am]

BILLING CODE 8011-01-P